DEPARTMENT OF VETERANS AFFAIRS

[OMB Control No. 2900-0676]

Agency Information Collection (National Acquisition Center Customer Response Survey) Activities Under OMB Review

AGENCY: Office of Management, Department of Veterans Affairs.

ACTION: Notice.

SUMMARY: In compliance with the Paperwork Reduction Act (PRA) of 1995 (44 U.S.C. 3501-3521), this notice announces that the Office of Management (OM), Department of Veterans Affairs, has submitted the collection of information abstracted below to the Office of Management and Budget (OMB) for review and comment. The PRA submission describes the nature of the information collection and its expected cost and burden; it includes the actual data collection instrument.

DATES: Comments must be submitted on or before March 2, 2009.

ADDRESSES: Submit written comments on the collection of information through www.Regulations.gov; or to VA's OMB Desk Officer, OMB Human Resources and Housing Branch, New Executive Office Building, Room 10235, Washington, DC 20503 (202) 395-7316. Please refer to “OMB Control No. 2900-0676” in any correspondence.

FOR FURTHER INFORMATION OR A COPY OF THE SUBMISSION CONTACT: Denise McLamb, Records Management Service (005R1B), Department of Veterans Affairs, 810 Vermont Avenue, NW., Washington, DC 20420, (202) 461-7485, FAX (202) 273-0443 or e-mail: denise.mclamb@mail.va.gov. Please refer to “OMB Control No. 2900-0676.”

SUPPLEMENTARY INFORMATION: Title: Department of Veterans Affairs (VA) National Acquisition Center Customer Response Survey, VA Form 0863 and NAC Conference Registration Form.

OMB Control Number: 2900-0676.

Type of Review: Extension of a currently approved collection.

Abstract: VA Form 0863 will be used to collect customer's feedback and suggestions on delivered products and services administered by the National Acquisition Center (NAC). NAC will use the data to improve and/or enhance its program operations for both internal and external customers. The data collected on NAC registration form will be used to ensure conference material is available for all attendees.

An agency may not conduct or sponsor, and a person is not required to respond to a collection of information unless it displays a currently valid OMB control number. The Federal Register Notice with a 60-day comment period soliciting comments on this collection of information was published on November 19, 2008 at pages 69720-69721.

Affected Public: Federal Government.

Estimated Annual Burden: 83 hours.

Estimated Average Burden per respondent: 5 minutes.

Frequency of Response: On occasion.

Estimated Number of Respondents: 1,000.

Dated: January 22, 2009.
By direction of the Secretary.
Denise McLamb,
Program Analyst, Enterprise Records Service.

[FR Doc. E9-2074 Filed 1-29-09; 8:45 am]

BILLING CODE 8320-01-P